ENVIRONMENTAL PROTECTION AGENCY

[EPA-HQ-OPPT-2016-0024; FRL-9948-32]

Certain New Chemicals; Receipt and Status Information for May 2016

AGENCY: Environmental Protection Agency (EPA).

ACTION: Notice.

SUMMARY: EPA is required under the Toxic Substances Control Act (TSCA) to publish in the Federal Register a notice of receipt of a premanufacture notice (PMN); an application for a test marketing exemption (TME), both pending and/or expired; and a periodic status report on any new chemicals under EPA review and the receipt of notices of commencement (NOC) to manufacture those chemicals. This document covers the period from May 2, 2016 to May 31, 2016.

DATES: Comments identified by the specific case number provided in this document, must be received on or before August 11, 2016.

ADDRESSES: Submit your comments, identified by docket identification (ID) number EPA-HQ-OPPT-2016-0024, and the specific PMN number or TME number for the chemical related to your comment, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: For technical information contact: Jim Rahai, IMD (7407M) Office of Pollution Prevention and Toxics, Environmental Protection Agency, 1200 Pennsylvania Ave. NW., Washington, DC 20460-0001; telephone number: (202) 564-8593; email address: rahai.jim@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

This action is directed to the public in general. As such, the Agency has not attempted to describe the specific entities that this action may apply to. Although others may be affected, this action applies directly to the submitters of the actions addressed in this document.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. What action is the agency taking?

This document provides receipt and status reports, which cover the period from May 2, 2016 to May 31, 2016, and consists of the PMNs and TMEs both pending and/or expired, and the NOCs to manufacture a new chemical that the Agency has received under TSCA section 5 during this time period.

III. What is the Agency's authority for taking this action?

Under TSCA, 15 U.S.C. 2601 et seq., EPA classifies a chemical substance as either an “existing” chemical or a “new” chemical. Any chemical substance that is not on EPA's TSCA Inventory is classified as a “new chemical,” while those that are on the TSCA Inventory are classified as an “existing chemical.” For more information about the TSCA Inventory go to: http://www.epa.gov/opptintr/newchems/pubs/inventory.htm.

Anyone who plans to manufacture or import a new chemical substance for a non-exempt commercial purpose is required by TSCA section 5 to provide EPA with a PMN, before initiating the activity. Section 5(h)(1) of TSCA authorizes EPA to allow persons, upon application, to manufacture (includes import) or process a new chemical substance, or a chemical substance subject to a significant new use rule (SNUR) issued under TSCA section 5(a), for “test marketing” purposes, which is referred to as a test marketing exemption, or TME. For more information about the requirements applicable to a new chemical go to: http://www.epa.gov/oppt/newchems.

Under TSCA sections 5(d)(2) and 5(d)(3), EPA is required to publish in the Federal Register a notice of receipt of a PMN or an application for a TME and to publish in the Federal Register periodic reports on the status of new chemicals under review and the receipt of NOCs to manufacture those chemicals.

IV. Receipt and Status Reports

As used in each of the tables in this unit, (S) indicates that the information in the table is the specific information provided by the submitter, and (G) indicates that the information in the table is generic information because the specific information provided by the submitter was claimed as CBI.

For the 66 PMNs received by EPA during this period, Table 1 provides the following information (to the extent that such information is not claimed as CBI): The EPA case number assigned to the PMN; the date the PMN was received by EPA; the projected end date for EPA's review of the PMN; the submitting manufacturer/importer; the potential uses identified by the manufacturer/importer in the PMN; and the chemical identity.

Table 1—PMNs Received From May 2, 2016 to May 31, 2016
Case No. | Date received | Projected end date for EPA review | Manufacturer/ Importer | Use(s) | Chemical identity
P-16-0387 | 5/31/2016 | 8/29/2016 | CBI | (G) Additives for polymers | (G) Aliphatic polycarboxylic acid, polymer with alicyclic polyhydric alcohol and polyoxyalkylene.
P-16-0393 | 5/31/2016 | 8/29/2016 | CBI | (S) Plasticizer for use with polymers | (G) Di-substituted benzenedicarboxylic acid ester.
P-16-0102 | 5/13/2016 | 8/11/2016 | CBI | (G) Ink component | (G) Polyester acrylate.
P-16-0102 | 5/13/2016 | 8/11/2016 | CBI | (G) Coating component | (G) Polyester acrylate.
P-16-0102 | 5/13/2016 | 8/11/2016 | CBI | (G) Adhesive component | (G) Polyester acrylate.
P-16-0205 | 5/17/2016 | 8/15/2016 | CBI | (S) General industrial oil | (G) Amide.
P-16-0205 | 5/17/2016 | 8/15/2016 | CBI | (S) Hydraulic oil | (G) Amide.
P-16-0205 | 5/17/2016 | 8/15/2016 | CBI | (G) Lubricant oil | (G) Amide.
P-16-0271 | 5/20/2016 | 8/18/2016 | CBI | (S) Flexible pvc plasticizer for wire insulation | (S) 1,2,4-benzenetricarboxylic acid, 1,2,4-trinonyl ester.
P-16-0282 | 5/10/2016 | 8/8/2016 | CBI | (S) Paint dryier | (G) Manganese complexes.
P-16-0323 | 5/17/2016 | 8/15/2016 | Allnex USA, Inc | (G) Coating resin | (G) Formaldehyde, reaction products with substituted carbomonocycle-substituted heteromonocycle-alkylene glycol bis [[[substituted(oxoneoalky)oxy]alkyl]amino]alky] ether polymer and alkyl substituted alkanediamine, acetate (salts).
P-16-0348 | 5/7/2016 | 8/5/2016 | CBI | (G) Industrial lubricant | (G) Polypentaerythritol, mixed esters with linear and branched monoacids.
P-16-0349 | 5/11/2016 | 8/9/2016 | CBI | (G) Fuel additive | (G) Quaternary ammonium salt of polyisobutene succinic acid.
P-16-0350 | 5/2/2016 | 7/31/2016 | CBI | (G) Polymer reactant | (G) Polyaralkyl aryl ester of methacrylic acid.
P-16-0351 | 5/2/2016 | 7/31/2016 | Solazyme, Inc | (G) Renewable oil source for fuels | (G) Glycerides, c14-18 and c16-c18 unsaturated, from fermentation.
P-16-0351 | 5/2/2016 | 7/31/2016 | Solazyme, Inc | (G) Feedstock for oleochemical industry | (G) Glycerides, c14-18 and c16-c18 unsaturated, from fermentation.
P-16-0353 | 5/4/2016 | 8/2/2016 | Gantrade Corp. | (S) Chain extender and curative for use in polymer manufacturing | (S) Benzenamine, 4-[(4-amino-3-chlorophenyl)methyl]-2-ethyl-.
P-16-0354 | 5/5/2016 | 8/3/2016 | CBI | (G) Intermediate | (G) Esteramine.
P-16-0355 | 5/5/2016 | 8/3/2016 | CBI | (G) Intermediate | (G) Esteramine.
P-16-0356 | 5/5/2016 | 8/3/2016 | CBI | (G) Wellbore additive | (G) Quaternary ammonium salts.
P-16-0357 | 5/5/2016 | 8/3/2016 | CBI | (G) Wellbore additive | (G) Quaternary ammonium salts.
P-16-0358 | 5/5/2016 | 8/3/2016 | CBI | (S) Intermediate for further polymer reaction | (G) Alkylphenol.
P-16-0359 | 5/5/2016 | 8/3/2016 | Dic International, USA, LLC | (G) Pigment additive for industrial coatings | (G) Carbopolycycle-bis(diazonium), dihalo-, chloride (1:2), reaction products with metal hydroxide, 4-[(dioxoalkyl)amino]substituted benzene, 2-[(dioxoalkyl)amino]substituted benzene, 5-[(dioxoalkyl)amino]-2-hydroxy-substituted benzene and oxo-n-phenylalkanamide.
P-16-0359 | 5/5/2016 | 8/3/2016 | Dic International USA, LLC | (G) Pigment additives for industrial coatings | (G) Carbopolycycle-bis(diazonium), dihalo-, chloride (1:2), reaction products with metal hydroxide, 4-[(dioxoalkyl)amino]substituted benzene, 2-[(dioxoalkyl)amino]substituted benzene, 5-[(dioxoalkyl)amino]-2-hydroxy-substituted benzene and oxo-n-phenylalkanamide.
P-16-0360 | 5/6/2016 | 8/4/2016 | Oleon Americas, Inc | (G) Fuel additive | (S) Poly (oxy-1,2-ethanediyl), alpha- (1-oxodocosyl)- omega- [(1-oxodocosyl)oxy]-.
P-16-0361 | 5/12/2016 | 8/10/2016 | American Process, Inc | (G) Plastic reinforcement | (S) Pulp, cellulose, reaction products with lignin [nanocrystals].
P-16-0361 | 5/12/2016 | 8/10/2016 | American Process, Inc | (G) Binders | (S) Pulp, cellulose, reaction products with lignin [nanocrystals].
P-16-0361 | 5/12/2016 | 8/10/2016 | American Process, Inc | (G) Viscosifying agent | (S) Pulp, cellulose, reaction products with lignin [nanocrystals].
P-16-0362 | 5/12/2016 | 8/10/2016 | American Process, Inc | (G) Binders | (S) Pulp, cellulose, reaction products with lignin [nanofibrils].
P-16-0362 | 5/12/2016 | 8/10/2016 | American Process, Inc | (G) Plastic reinforcement | (S) Pulp, cellulose, reaction products with lignin [nanofibrils].
P-16-0362 | 5/12/2016 | 8/10/2016 | American Process, Inc | (G) Viscosifying agent | (S) Pulp, cellulose, reaction products with lignin [nanofibrils].
P-16-0363 | 5/10/2016 | 8/8/2016 | CBI | (G) Open, non-dispersive | (G) Blocked polyester polyurethane, neutralized.
P-16-0364 | 5/10/2016 | 8/8/2016 | CBI | (G) Intermediate used completely on site | (G) Nitrile-butadiene-acrylate terpolymers.
P-16-0365 | 5/16/2016 | 8/14/2016 | Allnex USA, Inc | (S) Ultra violet curable coating resin | (G) Alkyl carbonate, polymer with, substituted alkanes and substituted heteromonocycle, substituted alkyl acrylate-blocked.
P-16-0366 | 5/11/2016 | 8/9/2016 | CBI | (G) Open, non-dispersive | (G) Blocked polyisocyanate.
P-16-0367 | 5/20/2016 | 8/18/2016 | Allnex USA, Inc | (S) Ultra violet curable coating resin | (G) Substituted heteromonocylce, polymer with substituted alkane and ethoxylated alkaneâ¿ã¿â¿ã¿â¢ã¿â¿ã¿â¿ã¿â¿ã¿â¿ã¿â¿, substituted heteromonocycle substituted â¿ã¿â¿ã¿â¢ã¿â¿ã¿â¿ã¿â¿ã¿â¿â¿ã¿â¿alkyl ester-â¿ã¿â¿ã¿â¢ã¿â¿ã¿â¿ã¿â¿ã¿â¿â¿blocked.
P-16-0368 | 5/13/2016 | 8/11/2016 | CBI | (S) Adhesive coating for carpet backing | (G) Aromatic dicarboxylic acid, polymer with adipic acid and alkanediol.
P-16-0369 | 5/13/2016 | 8/11/2016 | Allnex USA, Inc | (S) Ultra violet curable coating resin | (G) Substituted heteromonocycle, telomer with substituted carbomonocycles, substituted alkyl ester.
P-16-0370 | 5/13/2016 | 8/11/2016 | CBI | (G) Crosslinker for adhesives and coatings | (G) Polysiloxane with functional groups.
P-16-0371 | 5/13/2016 | 8/11/2016 | CBI | (G) Wetting and dispersing additive | (G) Polyphosphoric acids polyether polyethene alkyl alkyl.
P-16-0372 | 5/13/2016 | 8/11/2016 | CBI | (G) Wetting and dispersing additive | (G) Polyphosphoric acids polyether alkyl polyethylene polymer.
P-16-0373 | 5/13/2016 | 8/11/2016 | CBI | (S) Ultra violet absorber for plastic articles | (G) Tris(alkyloxyphenyl)triazine compounds.
P-16-0374 | 5/17/2016 | 8/15/2016 | CBI | (G) Oil additive | (G) Metal branched alkyl substituted carbomonocycle complexes with substituted alkyl carbomonocycle.
P-16-0375 | 5/19/2016 | 8/17/2016 | CBI | (G) Binder for seal application | (G) Alkyl methacrylates, polymer with olefines.
P-16-0376 | 5/18/2016 | 8/16/2016 | CBI | (G) Photolithography | (G) Hydroxystyrene resin.
P-16-0377 | 5/17/2016 | 8/15/2016 | CBI | (G) Film component | (G) Polyester polyol.
P-16-0378 | 5/17/2016 | 8/15/2016 | CBI | (G) Film component | (G) Polyester polyol.
P-16-0379 | 5/18/2016 | 8/16/2016 | CBI | (G) Intermediate for polymer synthesis | (G) Vinyl functional polymethylalkylpolymer.
P-16-0380 | 5/18/2016 | 8/16/2016 | CBI | (G) Component of electrocoat resin | (G) Formic acid, compds. with hydrolyzed bisphenol a-epichlorohydrin-polyethylene glycol ether with bisphenol a (2:1) polymer-n1-(1,3-dimethylbutylidene)-n2-[2-[(1, 3-dimethylbutylidene)amino]ethyl]-1,2-ethanediamine-dialdehyde-2-(methylamino)ethanol reaction products acetates (salts).
P-16-0381 | 5/18/2016 | 8/16/2016 | CBI | (G) Component of electrocoat resin | (G) Propanoic acid, 2-hydroxy-, compds. with hydrolyzed bisphenol a-epichlorohydrin-polyethylene glycol ether with bisphenol a (2:1) polymer-n1-(1,3-dimethylbutylidene)-n2-[2-[(1, 3-dimethylbutylidene)amino]ethyl]-1,2-ethanediamine-dialdehyde-2-(methylamino)ethanol reaction products formates (salts).
P-16-0381 | 5/18/2016 | 8/16/2016 | CBI | (S) Anti-crater additive for automotive electrocoat resin | (G) Propanoic acid, 2-hydroxy-, compds. with hydrolyzed bisphenol a-epichlorohydrin-polyethylene glycol ether with bisphenol a (2:1) polymer-n1-(1,3-dimethylbutylidene)-n2-[2-[(1, 3-dimethylbutylidene)amino]ethyl]-1,2-ethanediamine-dialdehyde-2-(methylamino)ethanol reaction products formates (salts).
P-16-0382 | 5/18/2016 | 8/16/2016 | CBI | (G) Component of electrocoat resin | (G) Formic acid, compds. with hydrolyzed bisphenol a-epichlorohydrin-polyethylene glycol ether with bisphenol a (2:1) polymer-n1-(1,3-dimethylbutylidene)-n2-[2-[(1, 3-dimethylbutylidene)amino]ethyl]-1,2-ethanediamine-dialdehyde-2-(methylamino)ethanol reaction products sulfamates (salts).
P-16-0382 | 5/18/2016 | 8/16/2016 | CBI | (S) Anti-crater additive for automotive electrocoat resin | (G) Formic acid, compds. with hydrolyzed bisphenol a-epichlorohydrin-polyethylene glycol ether with bisphenol a (2:1) polymer-n1-(1,3-dimethylbutylidene)-n2-[2-[(1, 3-dimethylbutylidene)amino]ethyl]-1,2-ethanediamine-dialdehyde-2-(methylamino)ethanol reaction products sulfamates (salts).
P-16-0383 | 5/18/2016 | 8/16/2016 | CBI | (S) Anti-crater additive for automotive electrocoat resin | (G) Formic acid, compds. with hydrolyzed bisphenol a-epichlorohydrin-polyethylene glycol ether with bisphenol a (2:1) polymer-n1-(1,3-dimethylbutylidene)-n2-[2-[(1, 3-dimethylbutylidene)amino]ethyl]-1,2-ethanediamine-dialdehyde-2-(methylamino)ethanol reaction products acetates (salts).
P-16-0383 | 5/18/2016 | 8/16/2016 | CBI | (G) Component in electrocoat resin | (G) Formic acid, compds. with hydrolyzed bisphenol a-epichlorohydrin-polyethylene glycol ether with bisphenol a (2:1) polymer-n1-(1,3-dimethylbutylidene)-n2-[2-[(1, 3-dimethylbutylidene)amino]ethyl]-1,2-ethanediamine-dialdehyde-2-(methylamino)ethanol reaction products acetates (salts).
P-16-0384 | 5/18/2016 | 8/16/2016 | CBI | (G) Component of an electrocoat resin | (G) Propanoic acid, 2-hydroxy-, compds. with hydrolyzed bisphenol a-epichlorohydrin-polyethylene glycol ether with bisphenol a (2:1) polymer-n1-(1,3-dimethylbutylidene)-n2-[2-[(1, 3-dimethylbutylidene)amino]ethyl]-1,2-ethanediamine-dialdehyde-2-(methylamino)ethanol reaction products formates (salts).
P-16-0384 | 5/18/2016 | 8/16/2016 | CBI | (S) Anti-crater additive for automotive electrocoat resin | (G) Propanoic acid, 2-hydroxy-, compds. with hydrolyzed bisphenol a-epichlorohydrin-polyethylene glycol ether with bisphenol a (2:1) polymer-n1-(1,3-dimethylbutylidene)-n2-[2-[(1, 3-dimethylbutylidene)amino]ethyl]-1,2-ethanediamine-dialdehyde-2-(methylamino)ethanol reaction products formates (salts).
P-16-0385 | 5/18/2016 | 8/16/2016 | CBI | (G) Component of electrocoat resin | (G) Formic acid, compds. with hydrolyzed bisphenol a-epichlorohydrin-polyethylene glycol ether with bisphenol a (2:1) polymer-n1-(1,3-dimethylbutylidene)-n2-[2-[(1, 3-dimethylbutylidene)amino]ethyl]-1,2-ethanediamine-dialdehyde-2-(methylamino)ethanol reaction products sulfamates (salts).
P-16-0385 | 5/18/2016 | 8/16/2016 | CBI | (S) Anti-crater additive for automotive electrocoat resin | (G) Formic acid, compds. with hydrolyzed bisphenol a-epichlorohydrin-polyethylene glycol ether with bisphenol a (2:1) polymer-n1-(1,3-dimethylbutylidene)-n2-[2-[(1, 3-dimethylbutylidene)amino]ethyl]-1,2-ethanediamine-dialdehyde-2-(methylamino)ethanol reaction products sulfamates (salts).
P-16-0386 | 5/20/2016 | 8/18/2016 | CBI | (S) Additive for motor oil formulations and gear oil lubricants | (S) Hexanedioic acid, 1,6-bis(3,5,5-trimethylhexyl) ester.
P-16-0388 | 5/20/2016 | 8/18/2016 | CBI | (G) Hardener for epoxy coating | (G) Aliphatic polyamines, polymers with bisphenol a and epichlorohydrin.
P-16-0389 | 5/23/2016 | 8/21/2016 | CBI | (G) Oil & gas extraction | (G) Polymer of substituted acrylic acid, mercaptoethanol and bromohexane.
P-16-0390 | 5/27/2016 | 8/25/2016 | CBI | (S) Coating resin used in anti-fogging clear coat applied to automotive parts | (G) Alkyl alkenoic acid alkyl ester polymer with alkyl alkenoate, dialkyl alkenamide, hydroxy-modified alkenoic acid derivative, and sulfonic-modified alkenoic acid derivative.
P-16-0391 | 5/23/2016 | 8/21/2016 | CBI | (G) Stabilizer | (G) Polyester polyol polymer with aliphatic isocyanate and phenol derivates.
P-16-0392 | 5/25/2016 | 8/23/2016 | CBI | (G) Wax | (G) Modified vegetable oil.
P-16-0394 | 5/31/2016 | 8/29/2016 | CBI | (G) Adhesive | (G) Benzenedicarboxylic acid, polymer with decanedioic acid and dodecanedioic acid, ethanediol, hexanedioic acid, hexanediol, alpha-hydro-omega-hydroxypoly[oxy(methyl-1,2-ethanediyl)], isobenzofurandione,1,1'-methylenebis[4-isocyanatobenzene], phenol and trimethylbicyclo hept-2-ene.

For the 28 NOCs received by EPA during this period, Table 3 provides the following information (to the extent that such information is not claimed as CBI): The EPA case number assigned to the NOC; the date the NOC was received by EPA; the projected date of commencement provided by the submitter in the NOC; and the chemical identity.

Table 2—NOCs Received From May 2, 2016 to May 31, 2016
Case No. | Date received | Projected end date of commencement | Chemical identity
P-89-1056 | 5/9/2016 | 8/31/2005 | (G) Polyurethane.
P-92-0303 | 5/6/2016 | 6/23/1992 | (S) Phenol, 2,4,6-tris[(dimethylamino)methyl]-, reaction products with benzyl chloride.
P-99-0096 | 5/6/2016 | 5/4/2016 | (G) Amine-modified polyether acrylate.
P-13-0916 | 5/10/2016 | 4/17/2016 | (G) Polyurethane.
P-14-0076 | 5/5/2016 | 11/18/2014 | (G) Synthetic polyol esters.
P-14-0078 | 5/5/2016 | 9/11/2014 | (G) Synthetic polyol ester.
P-14-0079 | 5/5/2016 | 6/26/2014 | (G) Synthetic polyol esters.
P-14-0711 | 5/10/2016 | 5/3/2016 | (G) Polyurethane.
P-14-0855 | 5/10/2016 | 4/18/2016 | (G) Polyurethane.
P-14-0856 | 5/10/2016 | 4/18/2016 | (G) Polyurethane.
P-14-0857 | 5/10/2016 | 4/18/2016 | (G) Polyurethane.
P-14-0858 | 5/10/2016 | 4/18/2016 | (G) Polyurethane.
P-15-0120 | 5/11/2016 | 2/24/2016 | (G) Substituted benzyl acrylate.
P-15-0276 | 5/23/2016 | 5/2/2016 | (G) Functionalized carbon nanotubes.
P-15-0303 | 5/19/2016 | 5/17/2016 | (S) Cellulose, carboxymethyl ether, sodium salt, polymer with bis(isocyanatomethyl)benzene, 2,2-dimethoxyacetaldehyde, ethanedial, 2-ethyl-2-(hydroxymethyl)-1,3-propanediol, 2-oxoacetic acid, 1h-1,2,4-triazole-3,5-diamine and 1,3,5-triazine-2,4,6-triamine.
P-15-0747 | 5/26/2016 | 5/13/2016 | (G) Naturally-occurring minerals, reaction products with boron sodium oxide (b4na2o7), hetero substituted alkyl acrylate polymer, kaolin and sodium silicate.
P-16-0056 | 5/26/2016 | 5/5/2016 | (G) Dialkyl fattyalkylamino propanamide alkylamine acetates.
P-16-0124 | 5/13/2016 | 5/1/2016 | (G) Substituted alkanoic acid-, salts with substituted alkanol-blocked haloalkyl heteromonocycle substituted carbomonocycle polymer alkyl alkanoate substituted carbomonocycle-trialkylcarbomonocycle-alkyl imine reaction products.
P-16-0126 | 5/13/2016 | 5/1/2016 | (G) Substituted carbomonocycle, polymer with substituted heteromonocycle, reaction products with substituted amine, substituted amine and substituted alkanol, alkylalkanoates substituted carbomonocycle.
P-16-0135 | 5/2/2016 | 4/14/2016 | (G) Polyesters, fatty alkyl amindes terminated.
P-16-0141 | 5/4/2016 | 5/1/2016 | (G) Polyalkyl methacrylate copolymer.
P-16-0190 | 5/20/2016 | 4/25/2016 | (G) Aryl polyolefin.
P-16-0210 | 5/23/2016 | 5/11/2016 | (G) Alkanepolycarboxylic acids, polymer with alkanepolyols, benzenedicarboxylic acid, methylenebis[isocyantobenzene], mono- and polyether polyols, benzenedicarboxylic acid derivative and caprolactone.
P-16-0210 | 5/23/2016 | 5/12/2016 | (G) Alkanepolycarboxylic acids, polymer with alkanepolyols, benzenedicarboxylic acid, methylenebis[isocyantobenzene], mono- and polyether polyols, benzenedicarboxylic acid derivative and caprolactone.
P-16-0211 | 5/23/2016 | 5/13/2016 | (G) Polymer of alkyl acrylate, caprolactone, methylenebis[isocyanatobenzene], alkyl methacrylates, polyether polyol, alkanepolycarboxylic acid, substituted methacrylate and alkanepolyol.
P-16-0212 | 5/23/2016 | 5/17/2016 | (G) Polymer of alkanepolyols, methylenebis[isocyantobenzene], polyether polyol, alkyl methacrylates and acrylate, methacrylic acid, substitued methacrylic acid and alkanepolycarboxylic acid.
P-16-0213 | 5/23/2016 | 5/10/2016 | (G) Polymer of substituted benzenes, alkanepolyols, alkanepolycarboxylic acids, methylenebis[isocyanatobenzene], polyether polyol, neopentyl glycol and a substituted glycol.
P-16-0214 | 5/23/2016 | 5/10/2016 | (G) Polyether polyols, polymers with substituted benzenes, methylenebis[isocyanatobenzene], alkanepolyols, caprolactone and a substituted glycol.

Authority: 15 U.S.C. 2601 et seq.

Dated: July 5, 2016.
Pamela S. Myrick,
Acting Director, Information Management Division, Office of Pollution Prevention and Toxics.

[FR Doc. 2016-16448 Filed 7-11-16; 8:45 am]

BILLING CODE 6560-50-P